SECURITIES AND EXCHANGE COMMISSION

Sunshine Act Meeting

Federal Register Citation of Previous Announcement: [to be published].

Status: Closed Meeting.

Place: 100 F Street, NE., Washington, DC.

Date and Time of Previously Announced Meeting: Thursday, September 18, 2008 at 1 p.m.

Change in the meeting: Cancellation of Meeting.

The Closed Meeting scheduled for Thursday, September 18, 2008 has been cancelled.

For further information please contact the Office of the Secretary at (202) 551-5400.

Dated: September 18, 2008.
Florence E. Harmon,
Acting Secretary.

[FR Doc. E8-22195 Filed 9-22-08; 8:45 am]

BILLING CODE 8010-01-P